DEPARTMENT OF COMMERCE

National Oceanic and Atmospheric Administration

[RTID 0648-XF131]

Caribbean Fishery Management Council's Scientific and Statistical Committee; Public Virtual Meeting

AGENCY: National Marine Fisheries Service (NMFS), National Oceanic and Atmospheric Administration (NOAA), Commerce.

ACTION: Notice of a public virtual meeting.

SUMMARY: The Caribbean Fishery Management Council's (Council) Scientific and Statistical Committee (SSC) will hold a 3-day public virtual meeting to address the items contained in the tentative agenda included in the SUPPLEMENTARY INFORMATION.

DATES: The SSC public virtual meeting will be held on September 23 through 25, 2025, from 12:30 p.m. to 5 p.m. Atlantic Standard Time (AST), every day.

ADDRESSES: You may join the SSC public virtual meeting via Zoom from a computer, tablet, or smartphone by entering the following address: https://us02web.zoom.us/j/87993466049?pwd=5bvhG3ATeIVRjmTYREbW44fhGIFouD.1.

Meeting ID: 879 9346 6049.

Passcode: 314088.

One tap mobile:

+16892781000,,87993466049#,,,,*314088# US

Dial by your location:

+1 669 900 9128 US (San Jose)

+1 301 715 8592 US (Washington DC)

+1 646 558 8656 US (New York)

+1 787 966 7727 Puerto Rico

+1 939 945 0244 Puerto Rico

Meeting ID: 879 9346 6049.

Passcode: 314088.

Find your local number: https://us02web.zoom.us/u/kbSF3HMCmJ.

In case of problems with ZOOM, please join the meeting via GoToMeeting by entering the following address: https://meet.goto.com/768055309.

You can also dial in using your phone.

Access Code: 768-055-309

United States: +1 (571) 757-317-3122

Join from a video-conferencing room or system.

Meeting ID: 768-055-309

Dial in or type: 67.217.95.2 or inroomlink.goto.com

Or dial directly: 768055309@67.217.95.2 or 67.217.95.2##768055309

Get the app now and be ready when your first meeting starts: https://meet.goto.com/install.

FOR FURTHER INFORMATION CONTACT: Graciela García-Moliner, Caribbean Fishery Management Council, 270 Muñoz Rivera Avenue, Suite 401, San Juan, Puerto Rico 00918-1903, telephone: (787) 766-5926.

SUPPLEMENTARY INFORMATION: The following items included in the tentative agenda will be discussed:

September 23, 2025

12:30 p.m.-5 p.m.

Call to Order

Roll Call

SEDAR 91 U.S. Caribbean Spiny Lobster St. Thomas/St. John Assessment Report—Adyan Ríos, Caribbean Branch SEFSC, NOAA Fisheries

September 24, 2025

12:30 p.m.-5 p.m.

SEDAR 91 U.S. Caribbean Spiny Lobster St. Croix Assessment Report- Adyan Ríos, Caribbean Branch SEFSC, NOAA Fisheries

September 25, 2025

12:30 p.m.-5 p.m.

SEDAR 84 Caribbean Yellowtail Snapper (Puerto Rico, St. Thomas/St. John) and Stoplight Parrotfish (St. Croix): SSC recommendations for finalizing the stock assessments—SEFSC, NOAA Fisheries

Other Business

Next Meeting

Adjourn

The order of business may be adjusted as necessary to accommodate the completion of agenda items. The meeting will begin on September 23, 2025, at 12:30 p.m. AST, and will end on September 25, 2025, at 5 p.m., AST. Other than the start time, interested parties should be aware that discussions may start earlier or later than indicated, at the discretion of the Chair. In addition, the meeting may be completed prior to the date established in this notice.

Special Accommodations

For Any Additional Information On This Public Virtual Meeting, Please Contact Dr. Graciela García-Moliner, Caribbean Fishery Management Council, 270 Muñoz Rivera Avenue, Suite 401, San Juan, Puerto Rico 00918-1903, telephone: (787) 403-8337.

Authority: 16 U.S.C. 1801 et seq.

Dated: September 5, 2025.
Rey Israel Marquez,
Acting Deputy Director, Office of Sustainable Fisheries, National Marine Fisheries Service.

[FR Doc. 2025-17307 Filed 9-8-25; 8:45 am]

BILLING CODE 3510-22-P